NUCLEAR REGULATORY COMMISSION

Sunshine Federal Register Notice

AGENCY HOLDING THE MEETINGS: Nuclear Regulatory Commission [NRC-2011-0006].

DATE: Weeks of June 27, July 4, 11, 18, 25, August 1, 2011.

PLACE: Commissioners' Conference Room, 11555 Rockville Pike, Rockville, Maryland.

STATUS: Public and Closed.

Week of June 27, 2011

There are no meetings scheduled for the week of June 27, 2011.

Week of July 4, 2011—Tentative

There are no meetings scheduled for the week of July 4, 2011.

Week of July 11, 2011—Tentative

Tuesday, July 12, 2011

9:30 a.m. Briefing on the NRC Actions for Addressing the Integrated Regulatory Review Service (IRRS) Report (Public Meeting). (Contact: Jon Hopkins, 301-415-3027.)

This meeting will be webcast live at the Web address— http://www.nrc.gov.

Week of July 18, 2011—Tentative

Tuesday, July 19, 2011

9:30 a.m. Briefing on the Task Force Review of NRC Processes and Regulations Following Events in Japan (Public Meeting). (Contact: Nathan Sanfilippo, 301-415-3951.)

This meeting will be webcast live at the Web address— http://www.nrc.gov.

Week of July 25, 2011—Tentative

Thursday, July 28, 2011

9 a.m. Briefing on Severe Accidents and Options for Proceeding with Level 3 Probabilistic Risk Assessment Activities (Public Meeting). (Contact: Daniel Hudson, 301-251-7919.)

This meeting will be webcast live at the Web address— http://www.nrc.gov.

Week of August 1, 2011—Tentative

There are no meetings scheduled for the week of August 1, 2011.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555, (301-415-1969), or send an e-mail to darlene.wright@nrc.gov.

Dated: June 23, 2011.
Rochelle C. Bavol,
Policy Coordinator, Office of the Secretary.

[FR Doc. 2011-16257 Filed 6-24-11; 11:15 am]

BILLING CODE 7590-01-P